DEPARTMENT OF THE INTERIOR

National Park Service

[N6473; NPS-WASO-NAGPRA-NPS0040892; PPWOCRADN0-PCU00RP14.R50000]

Notice of Intended Repatriation: University of North Dakota, Grand Forks, ND

AGENCY: National Park Service, Interior.

ACTION: Notice.

SUMMARY: In accordance with the Native American Graves Protection and Repatriation Act (NAGPRA), the University of North Dakota intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Dr. Crystal Alberts, University of North Dakota, Carnegie Hall, 1st Floor, 250 Centennial Drive, Stop 8193, Grand Forks, ND 58202, email und.nagpra@und.edu.

SUPPLEMENTARY INFORMATION: This notice is published as part of the National Park Service's administrative responsibilities under NAGPRA. The determinations in this notice are the sole responsibility of the University of North Dakota, and additional information on the determinations in this notice, including the results of consultation, can be found in the summary or related records. The National Park Service is not responsible for the determinations in this notice.

Abstract of Information Available

A total of three cultural items have been requested for repatriation. The objects of cultural patrimony are a buckskin vest, a pair of moccasins, and a quiver and bow case. The objects have not been treated with potentially hazardous substances to the best of the institution's knowledge.

The items were acquired or donated to the University of North Dakota (UND) from an unknown source and at an unknown time. At some point prior to 1991, the items described in this notice, among others, were internally transferred to the UND American Indian Studies Department.

The buckskin/leather vest that is fringed along the shoulder and edges. It has red, yellow, blue, purple and white porcupine quillwork in a floral and geometric design front and back with metal buttons. It measures 33″ (chest) by 19″ (length).

The buckskin moccasins have white, blue, and green seed beads in a geometric design with red horsehair and metal cones. They measure 5″ by 10 ½.″

The buckskin bow and quiver case has buckskin fringe and measures 5″ x 35.″ It has blue, red, green, and orange seed beads in a geometric pattern.

Determinations

The University of North Dakota has determined that:

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Northern Cheyenne Tribe of the Northern Cheyenne Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the University of North Dakota must determine the most appropriate requestor prior to repatriation. Requests for joint repatriation of the cultural items are considered a single request and not competing requests. The University of North Dakota is responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16128 Filed 8-21-25; 8:45 am]

BILLING CODE 4312-52-P